DEPARTMENT OF ENERGY

Federal Energy Regulatory Commission

Combined Notice of Filings #1

Take notice that the Commission received the following electric rate filings:

Docket Numbers: ER10-3115-006.

Applicants: Waterside Power, LLC.

Description: Fourth Supplement to April 20, 2020 Triennial Market Power Update for the Northeast Region of Waterside Power, LLC.

Filed Date: 11/16/20.

Accession Number: 20201116-5236.

Comments Due: 5 p.m. ET 12/7/20.

Docket Numbers: ER10-3117-008.

Applicants: Lea Power Partners, LLC.

Description: Fourth Supplement to April 20, 2020 Triennial Market Power Update for the Southwest Power Pool Region of Lea Power Partners, LLC.

Filed Date: 11/16/20.

Accession Number: 20201116-5235.

Comments Due: 5 p.m. ET 12/7/20.

Docket Numbers: ER13-445-009; ER11-4060-009; ER11-4061-009 ER14-2823-007; ER15-1170-005; ER15-1171-005 ER15-1172-005; ER15-1173-005.

Applicants: Badger Creek Limited, Bear Mountain Limited, Chalk Cliff Limited, Double C Generation Limited Partnership, High Sierra Limited, Kern Front Limited, Live Oak Limited, McKittrick Limited.

Description: Third Supplement to April 20, 2020 Triennial Market Power Update for the Southwest Power Pool Region of Badger Creek Limited, et al.

Filed Date: 11/16/20.

Accession Number: 20201116-5237.

Comments Due: 5 p.m. ET 12/7/20.

Docket Numbers: ER20-282-001.

Applicants: FPL Energy Illinois Wind, LLC.

Description: Report Filing: Refund Report Under Docket ER20-282 to be effective N/A.

Filed Date: 11/17/20.

Accession Number: 20201117-5037.

Comments Due: 5 p.m. ET 12/8/20.

Docket Numbers: ER20-2954-001.

Applicants: Midcontinent Independent System Operator, Inc., American Transmission Company LLC.

Description: Tariff Amendment: 2020-11-17_SA 3562 ATC-ITC-Dairyland Substitute TCEA to be effective 8/28/2020.

Filed Date: 11/17/20.

Accession Number: 20201117-5008.

Comments Due: 5 p.m. ET 12/8/20.

Docket Numbers: ER21-417-000.

Applicants: Southwest Power Pool, Inc.

Description: § 205(d) Rate Filing: 2881R11 City of Chanute, KS NITSA NOA to be effective 9/1/2020.

Filed Date: 11/17/20.

Accession Number: 20201117-5007.

Comments Due: 5 p.m. ET 12/8/20.

Docket Numbers: ER21-418-000.

Applicants: AEP Texas Inc.

Description: § 205(d) Rate Filing: AEPTX-STEC Mathis Facility Development Agreement to be effective 11/6/2020.

Filed Date: 11/17/20.

Accession Number: 20201117-5018,

Comments Due: 5 p.m. ET 12/8/20.

Docket Numbers: ER21-419-000.

Applicants: AEP Texas Inc.

Description: § 205(d) Rate Filing: AEPTX-STEC Raymondville 2 Facilities Development Agreement to be effective 11/3/2020.

Filed Date: 11/17/20.

Accession Number: 20201117-5024.

Comments Due: 5 p.m. ET 12/8/20.

Docket Numbers: ER21-420-000.

Applicants: Midcontinent Independent System Operator, Inc.

Description: § 205(d) Rate Filing: 2020-11-17_SA 3233 OTP-MDU-Dakota Range III 1st Rev GIA (J488) to be effective 11/2/2020.

Filed Date: 11/17/20.

Accession Number: 20201117-5027.

Comments Due: 5 p.m. ET 12/8/20.

Docket Numbers: ER21-421-000.

Applicants: PJM Interconnection, L.L.C.

Description: § 205(d) Rate Filing: Interim ISA, SA#5848; Queue #AD1-087/AD2-202 & Req. for Shortened Comment Period to be effective 10/29/2020.

Filed Date: 11/17/20.

Accession Number: 20201117-5028.

Comments Due: 5 p.m. ET 12/8/20.

Docket Numbers: ER21-422-000.

Applicants: Brookfield Renewable Trading and Marketing LP.

Description: § 205(d) Rate Filing: Revised Market-Based Rate Tariff to be effective 11/18/2020.

Filed Date: 11/17/20.

Accession Number: 20201117-5029.

Comments Due: 5 p.m. ET 12/8/20.

Docket Numbers: ER21-423-000.

Applicants: Duke Energy Florida, LLC.

Description: § 205(d) Rate Filing: DEF-FL Solar 10 E&P Agreement RS No. 329 to be effective 11/18/2020.

Filed Date: 11/17/20.

Accession Number: 20201117-5031.

Comments Due: 5 p.m. ET 12/8/20.

Docket Numbers: ER21-424-000.

Applicants: Michigan Electric Transmission Company, LLC.

Description: Authorization To Recover Costs of Michigan Electric Transmission Company, LLC.

Filed Date: 11/16/20.

Accession Number: 20201116-5287.

Comments Due: 5 p.m. ET 12/7/20.

Docket Numbers: ER21-425-000.

Applicants: Copper Mountain Solar 5, LLC.

Description: Baseline eTariff Filing: Copper Mountain Solar 5, LLC MBR to be effective 1/16/2021.

Filed Date: 11/17/20.

Accession Number: 20201117-5035.

Comments Due: 5 p.m. ET 12/8/20.

Docket Numbers: ER21-426-000.

Applicants: Basin Electric Power Cooperative.

Description: § 205(d) Rate Filing: Submission of Revised Rate Schedule A to be effective 1/1/2021.

Filed Date: 11/17/20.

Accession Number: 20201117-5036.

Comments Due: 5 p.m. ET 12/8/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2020.
Nathaniel J. Davis, Sr.,
Deputy Secretary.

[FR Doc. 2020-25803 Filed 11-20-20; 8:45 am]

BILLING CODE 6717-01-P